DEPARTMENT OF COMMERCE

International Trade Administration

[A-570-846]

Brake Rotors From the People's Republic of China: Final Results of Changed Circumstances Antidumping Duty Administrative Review

AGENCY: Import Administration, International Trade Administration, Department of Commerce.

SUMMARY: On May 13, 2005, the Department of Commerce (“Department”) published the notice of preliminary results of its changed circumstances review examining whether Shanxi Fengkun Foundry Ltd., Co. (“Fengkun Foundry'”) is the successor-in-interest to Shanxi Fengkun Metallurgical Ltd., Co. (“Fengkun Metallurgical”') by virtue of its name change. See Notice of Preliminary Results of Changed Circumstances Antidumping Duty Administrative Review: Brake Rotors From the People's Republic of China, 70 FR 25545 (May 13, 2005) (“Preliminary Results”). In those Preliminary Results, the Department found that Fengkun Foundry is not the successor-in-interest to Fengkun Metallurgical.

After consideration of new factual information solicited by the Department and comments from interested parties, the Department now finds that Fengkun Foundry is the successor-in-interest to Fengkun Metallurgical, and that Fengkun Foundry should retain the deposit rate assigned to Fengkun Metallurgical by the Department for all entries of the subject merchandise produced or exported by Fengkun Metallurgical. We have now completed this changed circumstances review in accordance with 19 CFR 351.216 and 351.221(c)(3).

EFFECTIVE DATE: July 18, 2005

FOR FURTHER INFORMATION CONTACT: Catherine Bertrand or Carrie Blozy, AD/CVD Operations, Office 9, Import Administration, International Trade Administration, U.S. Department of Commerce, 14th Street and Constitution Avenue, NW., Washington, DC 20230; telephone: (202) 482-3207 or (202) 482-5403, respectively.

SUPPLEMENTARY INFORMATION:

Background

On October 19, 2004, the Department initiated a changed circumstances review of Fengkun Foundry's claim that it is the successor-of-interest to Fengkun Metallurgical. See Brake Rotors from the People's Republic of China: Notice of Initiation of Changed Circumstances Review, 69 FR 61468 (October 19, 2004) (“Initiation Notice”). On May 13, 2005, the Department published the preliminary results of its changed circumstances review. See Preliminary Results. In the Preliminary Results the Department stated that should Fengkun Foundry obtain a valid Certificate of Approval for Enterprises with Foreign Trade Rights (“Certificate of Approval”) and otherwise demonstrate that it is both an exporter and producer of the subject merchandise, we may revisit the issue and review the totality of information to determine if Fengkun Foundry should receive the same antidumping duty treatment with respect to brake rotors as the former Fengkun Metallurgical. See Preliminary Results at 25546. On May 31, 2005, Fengkun Foundry submitted a Certificate of Approval. On June 3, 2005, respondent submitted a case brief. Also, on June 3, 2005, petitioner, the Coalition for the Preservation of American Brake Drum and Rotor Aftermarket Manufacturers, filed a case brief and comments on the Certificate of Approval submitted by respondent on May 31, 2005. On June 10, 2005, both respondent and petitioner submitted a rebuttal brief.

Scope of the Order

The products covered by the order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans, recreational vehicles under “one ton and a half,” and light trucks designated as “one ton and a half.”

Finished brake rotors are those that are ready for sale and installation without any further operations. Semi-finished rotors are those rotors which have undergone some drilling and on which the surface is not entirely smooth. Unfinished rotors are those which have undergone some grinding or turning.

These brake rotors are for motor vehicles and do not contain in the casting a logo of an original equipment manufacturer (“OEM”) which produces vehicles sold in the United States (e.g., General Motors, Ford, Chrysler, Honda, Toyota, and Volvo). Brake rotors covered in this review are not certified by OEM producers of vehicles sold in the United States. The scope also includes composite brake rotors that are made of gray cast iron which contain a steel plate but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, the written description of the scope of the order is dispositive.

Analysis of Comments Received

All issues raised in the case and rebuttal briefs by parties to this administrative review are addressed in the Issues and Decision Memorandum (“Decision Memorandum”) from Susan H. Kuhbach, Acting Deputy Assistant Secretary, AD/CVD Operations, to Joseph A. Spetrini, Acting Assistant Secretary for Import Administration, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/frn/frnhome.htm. The paper copy and electronic version of the Decision Memorandum are identical in content.

Successorship and Final Results

On the basis of the record developed in this proceeding, we determine Fengkun Foundry is the successor-in-interest to Fengkun Metallurgical for purposes of determining antidumping duty liability. For a complete discussion of the basis for this decision, please see the Decision Memorandum accompanying this notice.

Effective as of the date of these final results, we will instruct U.S. Customs and Border Protection (“CBP”) to assign Fengkun Foundry the same antidumping duty cash-deposit rate applicable to Fengkun Metallurgical. The cash-deposit requirement will be effective upon publication of this notice of final results of changed circumstances review for all shipments of the subject merchandise entered, or withdrawn from warehouse, for consumption on or after the publication date.

This notice also serves as a final reminder to parties subject to administrative protective orders (“APOs”) of their responsibility concerning the disposition of proprietary information disclosed under APO in accordance with 19 CFR 351.305(a)(3). Failure to timely notify the Department in writing of the return/destruction of APO material is a sanctionable violation.

We are issuing and publishing this finding and notice in accordance with sections 751(b)(1) and 777(i)(1) of the Act and 19 CFR 351.221(c)(3) and 19 CFR 351.216.

Dated: July 11, 2005.
Susan H. Kuhbach,
Acting Assistant Secretary for Import Administration.

APPENDIX I

Comment 1: Whether Fengkun Foundry is the successor-in-interest to Fengkun Metallurgical

Comment 2: Circumvention of the Antidumping Order

Comment 3: Separate Rates

[FR Doc. E5-3802 Filed 7-15-05; 8:45 am]

BILLING CODE 3510-DS-S